INTERNATIONAL TRADE COMMISSION

[Investigation No. 731-TA-1092 (Review)]

Diamond Sawblades and Parts Thereof from China

Determination

On the basis of the record ¹ developed in the subject five-year review, the United States International Trade Commission (“Commission”) determines, pursuant to the Tariff Act of 1930, that revocation of the antidumping duty order on diamond sawblades and parts thereof from China would be likely to lead to continuation or recurrence of material injury to an industry in the United States within a reasonably foreseeable time.²

¹ The record is defined in sec. 207.2(f) of the Commission's Rules of Practice and Procedure (19 CFR 207.2(f)).

² Commissioner Kieff is recused from this review.

Background

The Commission, pursuant to section 751(c) of the Tariff Act of 1930 (19 U.S.C. 1675(c)), instituted this review on November 4, 2014 (79 FR 65420) and determined on January 22, 2015 that it would conduct a full review (80 FR 5136, January 30, 2015). Notice of the scheduling of the Commission's review and of a public hearing to be held in connection therewith was given by posting copies of the notice in the Office of the Secretary, U.S. International Trade Commission, Washington, DC, and by publishing the notice in the Federal Register on January 30, 2015 (80 FR 5136). The hearing was held in Washington, DC, on June 23, 2015, and all persons who requested the opportunity were permitted to appear in person or by counsel.

The Commission made this determination pursuant to section 751(c) of the Tariff Act of 1930 (19 U.S.C. 1675(c)). It completed and filed its determination in this review on September 2, 2015. The views of the Commission are contained in USITC Publication 4559 (September 2015), entitled Diamond Sawblades and Parts Thereof from China: Investigation No. 731-TA-1092 (Review).

By order of the Commission.
Issued: September 2, 2015.
Lisa R. Barton,
Secretary to the Commission.

[FR Doc. 2015-22612 Filed 9-8-15; 8:45 am]

BILLING CODE 7020-02-P